ENVIRONMENTAL PROTECTION AGENCY

[ER-FRL-6654-5]

Notice of Intent To Prepare an Environmental Impact Statement (EIS) for the Oxnard Plain Groundwater Recharge Project, Santa Clara River, Ventura County, CA

AGENCY: Environmental Protection Agency (EPA).

Purpose: To comply with the National Environmental Policy Act (NEPA) of 1969.

SUMMARY: The primary goal of the project is to increase the amount of water recharged into the Oxnard Plain aquifers to achieve a long-term balance between recharge and extractions. The benefits of additional recharge are a continued reduction in seawater intrusion, development of local water supplies to reduce the need for imported water, and increased flexibility and reliability in meeting future water demands through the conjunctive use of surface and groundwater supplies. United Water Conservation District (UWCD) manages groundwater and delivers water to cities and agricultural users in the Oxnard Plain region of Ventura County. One of UWCD's many responsibilities is recharge of the Oxnard Plain groundwater basins. To accomplish this recharge, the Freeman Diversion and related facilities were constructed in 1991 and are now used to divert 375 cfs from the Santa Clara River. The river water supply diverted by UWCD through these facilities is used for groundwater recharge and agricultural irrigation. Groundwater recharge is accomplished through the use of various UWCD-owned and operated facilities that include: the Freeman Diversion, lined and unlined canals, pipelines, desilting basins, and storage/recharge ponds and basins. The project will involve the purchase and use of abandoned aggregate mining pits and construction of water conveyance facilities for groundwater recharge using water diverted from the river in order to maximize recharge potential under current diversions. In addition, the project may include an increase in the maximum diversion rate, alternatives range from 375 to 1000 cfs, at the Freeman Diversion located along the Santa Clara River. An increase in diversion will require a modification of UWCD's water rights permits from the State of California. This Notice of Intent (NOI) to prepare a Draft EIS is being published because EPA has determined that the proposed action may result in a significant impact to the environment.

Alternatives: The alternatives include different configurations of new recharge basins using the mining pits, and varying peak diversion rates. All alternatives include the following facility improvements: (1) Modification of the fish screen at the Freeman Diversion to increase its effectiveness, improve flow capacity, and improve operations and maintenance of the screen; and (2) modification of the culvert at the outlet of the desilting basin to improve hydraulic capacity. EPA may approve or deny the proposed diversion, or approve with modifications to mitigate or reduce adverse impacts to acceptable levels. Other reasonable alternatives, including those outside EPA's authority, may also be evaluated in the EIS. Depending on the final alternative, the project could affect the federally endangered southern steelhead trout (South Coast Evolutionarily Significant Unit), which occurs along the Santa Clara River and passes through the Freeman Diversion through fish passage facilities. EPA will be consulting with National Marine Fisheries Service (NMFS) regarding impacts of the project pursuant to Section 7 of the Endangered Species Act. Similarly, EPA will consult with U.S. Fish and Wildlife Service regarding potential effects on a downstream listed species, the tidewater goby.

Scoping: The public scoping period begins with the publication of this Notice and concludes September 15, 2004. EPA invites Federal agencies, Native American tribes, State and local governments, and members of the public to comment on the scope of this EIS. EPA will consider fully all comments received by the close of the scoping period and will consider comments received after that date to the extent practicable.

Contact Information: EPA invites public comment on the proposed scope of this EIS. Comments may be submitted by mail, electronic mail, or fax, and addressed as follows: Jared Vollmer, Project Officer, Water 10, U.S. EPA Region 9, 75 Hawthorne St., San Francisco, CA, 94105. Electronic mail: vollmer.jared@epa.gov, Fax: (415) 947-3537, Telephone: (415) 972-3447. A project summary is available upon request.

Estimated Date of Release for Draft EIS: October 2004.

Responsible Official: Wayne Nastri, Regional Administrator.

Dated: August 5, 2004.
Anne Norton Miller,
Director, Office of Federal Activities.

[FR Doc. 04-18387 Filed 8-10-04; 8:45 am]

BILLING CODE 6560-50-P